FEDERAL COMMUNICATIONS COMMISSION

[DA 13-577]

Consumer Advisory Committee

AGENCY: Federal Communications Commission.

ACTION: Notice.

SUMMARY: The Commission announces rechartering, appointment of members and designation of chairperson of its Consumer Advisory Committee (Committee). The Commission further announces the Committee's next meeting date, time, and agenda. The purpose of the Committee is to make recommendations to the Commission regarding matters within the jurisdiction of the Commission and to facilitate the participation of all consumers in proceedings before the Commission.

DATES: The meeting of the Committee will take place on April 26, 2013, 9:00 a.m. to 4:00 p.m., at the Commission's Headquarters Building, Commission Meeting Room TW-C305.

ADDRESSES: Federal Communications Commission, 445 12th Street SW., Washington, DC 20554.

FOR FURTHER INFORMATION CONTACT: Scott Marshall, Consumer and Governmental Affairs Bureau, (202) 418-2809 (voice or Relay), or email Scott.Marshall@fcc.gov.

SUPPLEMENTARY INFORMATION: This is a summary of the Commission's document DA 13-577 released April 1, 2013, announcing the rechartering of the Committee, appointment of members, appointment of chairperson, and the agenda, date and time of the Committee's next meeting.

The Committee's charter was renewed for a seventh 2-year term effective October 23, 2012.

During the Committee's seventh term, it is anticipated that the Committee will meet in Washington, DC for a minimum of two (2) one-day plenary meetings per year. In addition, as needed, working groups or subcommittees will be established to facilitate the Committee's work between meetings of the full Committee. Members must be willing to commit to a two (2) year term of service, should be willing and able to attend a minimum of two (2) one-day plenary committee meetings per year in Washington, DC. Committee members are also expected to participate in deliberations of at least one (1) working group or subcommittee.

Appointment of Members and Chairperson

By document DA 13-577 dated and released on April 1, 2013, the Commission re-appoints thirty (30) previous members to the rechartered Committee and further makes three (3) new appointments to the Committee. Of the Committee's thirty-three (33) members, two (2) represent the interests of academia; eleven (11) represent the interests of consumers; six (6) represent the interests of the disability community; two (2) represent the interests of government/regulators; ten (10) represent the interests of industry, and two (2) represent the interests of low income/minority communities. The Committee's membership is designed to be representative of the Commission's many constituencies, and the diversity of the selected members will provide a balanced point of view as required by the Federal Advisory Committee Act. In addition, Chairman Genachowski reappoints Debra R. Berlyn representing the National Consumers League as Chairperson of the Committee. All appointments and reappointments are effective immediately and shall terminate October 23, 2014, or when the Committee is terminated, whichever is earlier.

Ms. Debra Berlyn, representing the National Consumers League, is re-appointed chairperson of the Committee.

The Committee's roster by organization name and primary representative is as follows (* indicates new appointment):

AARP—Chris Baker

American Consumer Institute—Stephen Pociask

American Foundation for the Blind—Paul Schroeder

Appalachian Regional Commission—Mark Defalco

Benton Foundation—Cecilia Garcia

California Western School of Law, New Media Rights Project—Art Neill

Call For Action—Shirley Rooker

Coleman Institute for Cognitive Disabilities—Enid Ablowitz

Consumer Action—Ken McEldowney

Consumer Federation of America—Irene E. Leech

Consumer Electronics Association—Julie Kearney

Center for Media Justice—Amalia Deloney

CTIA The Wireless Association—Scott Bergmann

Deaf and Hard of Hearing Consumer Action Network—Claude Stout

Digital Policy Institute—Barry Umansky

*Health Analytic Services—Douglas Trauner

Hearing Loss Association of America—Lise Hamlin

Helen Keller National Center for Deaf-Blind Youth and Adults—Dorothy Walt

Media Literacy Project—Andrea Quijada

Montgomery County, MD, Office of Cable and Broadband Services—Mitsuko Herrera

National Asian American Coalition—Mia Martinez

National Association of Broadcasters—Ann Bobeck

National Association of State Utility Consumer Advocates—Charles Acquard

National Cable and Telecommunications Association—Stephanie Podey

National Consumer Law Center—Olivia Wein

National Consumers League—Debra Berlyn (Committee Chairperson)

*Partners Healthcare—Dr. Julian Goldman

*Qualcomm Incorporated—Robert Jarrin

Rochester Institute of Technology—Raja Kushalnagar

Speech Communication Assistance by Telephone—Rebecca Ladew

Time Warner Cable—Fernando R. Laguarda

T-Mobile—Luisa Lancetti

Verizon Communications, Inc.—Donna Rynex and Mary Crespy (joint representatives)

Meeting Agenda

At its April 26, 2013 meeting, the Committee will consider administrative and procedural matters relating to its functions and may also consider consumer issues with in the jurisdiction of the Commission. A limited amount of time will be available on the agenda for comments from the public. Alternatively, Members of the public may send written comments to: Scott Marshall, Designated Federal Officer of the Committee at the address provided above.

The meeting is open to the public and the site is fully accessible to people using wheelchairs or other mobility aids. Sign language interpreters, open captioning, assistive listening devices, and Braille copies of the agenda and handouts will be provided on site.

Meetings are also broadcast live with open captioning over the Internet from the FCC Live Web page at www.fcc.gov/live/.

Simultaneous with the webcast, the meeting will be available through Accessible Event, a service that works with your web browser to make presentations accessible to people with disabilities. You can listen to the audio and use a screen reader to read displayed documents. You can also watch the video with open captioning. The Web site to access Accessible Event is http://accessibleevent.com. The Web page prompts for an Event Code which is 005202376. To learn about the features of Accessible Event, consult its User's Guide at: http://accessibleevent.com/doc/user_guide/. Other reasonable accommodations for people with disabilities are available upon request. The request should include a detailed description of the accommodation needed and contact information.

Please provide as much advance notice as possible; last minute requests will be accepted, but may be impossible to fill. Send an email to fcc504@fcc.gov or call the Consumer and Governmental Affairs Bureau at 202-418-0530 (voice), 202-418-0432 (TTY).

Federal Communications Commission.
Kris Anne Monteith,
Acting Chief, Consumer and Governmental Affairs Bureau.

[FR Doc. 2013-08018 Filed 4-5-13; 8:45 am]

BILLING CODE 6712-01-P